DEPARTMENT OF ENERGY

Federal Energy Regulatory Commission

Combined Notice of Filings #2

Take notice that the Commission received the following electric rate filings:

Docket Numbers: ER13-1281-000.

Applicants: Massachusetts Electric Company.

Description: Massachusetts Electric Company submits Refund Report Regarding Interconnection Agreement with Quarry Energy Corp. to be effective N/A.

Filed Date: 7/15/13.

Accession Number: 20130715-5202.

Comments Due: 5 p.m. e.t. 8/5.

Docket Numbers: ER13-1515-001.

Applicants: Midcontinent Independent System Operator, Inc.

Description: Midcontinent Independent System Operator, Inc. submits 07-15-13 RSP Amendment to be effective 7/16/2013.

Filed Date: 7/15/13.

Accession Number: 20130715-5212.

Comments Due: 5 p.m. e.t. 8/5/13.

Docket Numbers: ER13-1673-000.

Applicants: Entergy Arkansas, Inc.

Description: Compliance Refund Report to be effective N/A.

Filed Date: 7/12/13.

Accession Number: 20130712-5074.

Comments Due: 5 p.m. e.t. 8/2/13.

Docket Numbers: ER13-1793-001.

Applicants: Hazle Spindle, LLC.

Description: Hazle Spindle, LLC submits Hazle MBR Tariff Amendment to be effective 8/1/2013.

Filed Date: 7/15/13.

Accession Number: 20130715-5001.

Comments Due: 5 p.m. e.t. 8/5/13.

Docket Numbers: ER13-1972-000.

Applicants: Southern California Edison Company.

Description: Southern California Edison Company submits tariff filing per 35.13(a)(2)(iii: CLGIA and Distribution Service Agmt RE Columbia to be effective 7/16/2013.

Filed Date: 7/15/13.

Accession Number: 20130715-5000.

Comments Due: 5 p.m. e.t. 8/5/13.

Docket Numbers: ER13-1973-000.

Applicants: Michigan Electric Transmission Company, LLC.

Description: Michigan Electric Transmission Company, LLC submits Filing of CIAC Agreement with Wolverine Power Supply Cooperative to be effective 9/13/2013.

Filed Date: 7/15/13.

Accession Number: 20130715-5089.

Comments Due: 5 p.m. e.t. 8/5/13.

Docket Numbers: ER13-1974-000.

Applicants: PJM Interconnection, L.L.C.

Description: PJM Interconnection, L.L.C. submits Queue Position X4-016; Original Service Agreement No. 3597 to be effective 6/13/2013.

Filed Date: 7/15/13.

Accession Number: 20130715-5127.

Comments Due: 5 p.m. e.t. 8/5/13.

Docket Numbers: ER13-1975-000.

Applicants: AEP Texas North Company.

Description: AEP Texas North Company submits TNC-First Solar Development PDA to be effective 6/26/2013.

Filed Date: 7/15/13.

Accession Number: 20130715-5175.

Comments Due: 5 p.m. e.t. 8/5/13.

Docket Numbers: ER13-1976-000.

Applicants: AEP Texas Central Company.

Description: AEP Texas Central Company submits TCC-Sendero Wind Energy IA to be effective 6/26/2013.

Filed Date: 7/15/13.

Accession Number: 20130715-5181.

Comments Due: 5 p.m. e.t. 8/5/13.

Docket Numbers: ER13-1977-000.

Applicants: AEP Texas Central Company.

Description: AEP Texas Central Company submits TCC-Patriot Wind Farm IA to be effective 7/2/2013.

Filed Date: 7/15/13.

Accession Number: 20130715-5184.

Comments Due: 5 p.m. e.t. 8/5/13.

Docket Numbers: ER13-1978-000.

Applicants: AEP Texas Central Company.

Description: AEP Texas Central Company submits TCC-SP-BrackettvilleSolar PDA to be effective 7/2/2013.

Filed Date: 7/15/13.

Accession Number: 20130715-5185.

Comments Due: 5 p.m. e.t. 8/5/13.

Docket Numbers: ER13-1979-000.

Applicants: Lake Erie CleanPower Connector.

Description: Application for Authority to Sell Transmission Rights at Negotiated Rates and Request for Expedited Action of Lake Erie CleanPower Connector.

Filed Date: 7/15/13.

Accession Number: 20130715-5218.

Comments Due: 5 p.m. e.t. 8/5/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 15, 2013.
Nathaniel J. Davis, Sr.,
Deputy Secretary.

[FR Doc. 2013-17483 Filed 7-19-13; 8:45 am]

BILLING CODE 6717-01-P